DEPARTMENT OF COMMERCE

International Trade Administration

[A-423-602; C-508-605]

Revocation of Antidumping Duty Order: Industrial Phosphoric Acid From Belgium; and Revocation Countervailing Duty Order: Industrial Phosphoric Acid From Israel

AGENCY: Import Administration, International Trade Administration, Department of Commerce.

ACTION: Notice of revocation of antidumping duty order: industrial phosphoric acid from Belgium; and revocation countervailing duty order: industrial phosphoric acid from Israel.

SUMMARY: Pursuant to section 751(c) of the Tariff Act of 1930, as amended (“the Act”), the United States International Trade Commission (“the Commission”) determined that revocation of the antidumping and countervailing duty orders on industrial phosphoric acid from Belgium and Israel is not likely to lead to continuation or recurrence of material injury to an industry in the United States within a reasonably foreseeable time (65 FR 35395 (June 2, 2000)). Therefore, pursuant to section 751(d)(2) of the Act and 19 CFR 351.222(i)(1), the Department of Commerce (“the Department”) is revoking the antidumping and countervailing duty orders on industrial phosphoric acid from Belgium and Israel. Pursuant to section 751(c)(6)(A)(iv) of the Act and 19 CFR 351.222(i)(2)(ii), the effective date of revocation is January 1, 2000.

DATES: Effective Date: January 1, 2000.

FOR FURTHER INFORMATION CONTACT: Eun W. Cho or James Meader, Office of Policy for Import Administration, International Trade Administration, U.S. Department of Commerce, 14th Street and Constitution Ave., NW, Washington, DC 20230; telephone: (202) 482-1698 or (202) 482-3330, respectively.

Background

March 1, 1999, the Department initiated, and the Commission instituted, sunset reviews (64 FR 9970 and 64 FR 10017, respectively) of the antidumping and countervailing duty orders on industrial phosphoric acid from Belgium and Israel, pursuant to section 751(c) of the Act. As a result of the reviews, the Department found that revocation of the antidumping duty order would likely lead to continuation or recurrence of dumping and notified the Commission of the magnitude of the margins likely to prevail were the orders to be revoked. ¹ In addition, the Department determined that revocation of the countervailing duty order would likely lead to continuation or recurrence of countervailable subsidies and notified the Commission of the net countervailable subsidies likely to prevail were the order revoked. ²

¹ See Final Results of Full Sunset Review: Industrial Phosphoric Acid From Belgium, 65 FR 3661 (January 24, 2000).

² See Final Results of Full Sunset Review: Industrial Phosphoric Acid From Israel, 65 FR 6163 (February 8, 2000).

On May 22, 2000, the Commission determined, pursuant to section 751(c) of the Act, that revocation of the antidumping and countervailing duty orders on industrial phosphoric acid from Belgium and Israel would not likely lead to continuation or recurrence of material injury to an industry in the United States within a reasonably foreseeable time. (See USITC Publication 3302, Investigations Nos. 701-TA-286 (Review) and 731-TA-365 (Review) (May 2000) and Industrial Phosphoric Acid from Israel and Belgium, 65 FR 35395 (June 2, 2000).)

Scope of the Orders

The merchandise subject to this antidumping duty order is industrial phosphoric acid (“IPA”) from Belgium and Israel. IPA is currently classifiable under item number 2809.20.00 of the Harmonized Tariff Schedule of the United States (“HTSUS”).

Although the HTSUS subheadings are provided for convenience and customs purposes, the written description remains dispositive.

Determination

As a result of the determination by the Commission that revocation of these antidumping and countervailing duty orders is not likely to lead to continuation or recurrence of material injury to an industry in the United States, the Department, pursuant to section 751(d)(2) of the Act and 19 CFR 351.222(i)(1), is revoking the antidumping and countervailing duty orders on industrial phosphoric acid from Belgium and Israel. Pursuant to section 751(c)(6)(A)(iv) of the Act and 19 CFR 351.222(i)(2)(ii), this revocation is effective on January 1, 2000.

The Department will instruct the U.S. Customs Service to discontinue the suspension of liquidation and collection of cash deposits rate and to refund with interest any cash deposits on entries of the subject merchandise entered or withdrawn from warehouse on or after January 1, 2000 (the effective date). The Department will complete any pending administrative reviews of these orders and will conduct administrative reviews of subject merchandise entered prior to the effective date of revocation in response to appropriately filed requests for review.

Dated: June 7, 2000.
Troy H. Cribb,
Acting Assistant Secretary for Import Administration.

[FR Doc. 00-14893 Filed 6-12-00; 8:45 am]

BILLING CODE 3510-DS-P